DEPARTMENT OF COMMERCE

Economic Development Administration

Performance Review Board; membership

The following individuals are eligible to serve on the Performance Review Board in accordance with the Senior Executive Service Performance Appraisal System of the Economic Development Administration.

Gerald R. Lucas

Charles R. Sawyer

Pedro R. Garza

William J. Day, Jr.

Hugh L. Brennan

Vicki G. Brooks,
Executive Secretary, Economic Development Administration Performance Review Board.

[FR Doc. 00-24639 Filed 9-25-00; 8:45 am]

BILLING CODE 3510-BS-M